DEPARTMENT OF DEFENSE

Department of the Army

[Docket ID: USA-2014-0050]

Proposed Collection; Comment Request

AGENCY: Department of the Army, DoD.

ACTION: Notice.

SUMMARY: In compliance with the Paperwork Reduction Act of 1995, the Department of the Army (DOA) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 9, 2015

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Army Marketing and Research Group, ATTN: Alicia McCleary 200 Stovall Street, Hoffman II Room 4N29 or call 703-545-3476.

SUPPLEMENTARY INFORMATION: The purpose of this collection is to provide qualitative and quantitative data to the DOA on the civilian workforce's attitudes, perceptions, and awareness of civilian career opportunities within the Federal Government. The DOA maintains a listing of professional and technical skill sets that are critical to the Service's needs of today and tomorrow. The collection, compilation, and analysis of the new qualitative and quantitative data is imperative to the DOA's marketing and recruitment strategy for informing, identifying, and ultimately hiring those identified with the skill sets necessary for a sustainable DOA. Attention will be focused in particular on DA Civilian critical occupations with current or projected shortfalls to set specific marketing objectives, goals, and strategies for these critical skill areas. Information for this study will be collected in two phases. Phase I will be qualitative (focus groups) and Phase II will be quantitative (survey). This is a one-time data collection anticipated to be completed within approximately six months of OMB approval. The data collected from these activities will be supplemented with reviews of recent Army branding and marketing practices as well as of recent and projected hiring needs into DA Civilian jobs.

Title; Associated Form; and OMB Number: Civilian Attitudes and Feedback on the Affectedness of DOA Recruiting Techniques (Advertisements and Marketing) for Government Service Positions within the Service; Control Number 0702-XXXX

Needs and Uses: The collection of information is necessary to provide the data needed to understand the best strategies to raise awareness and spark interest in Army civilian employment opportunities with the ultimate goal of filling critical DA occupations.

Affected Public: Individuals or Households.

Focus Groups

Annual Burden Hours: 192.

Number Of Respondents: 128.

Responses Per Respondent: 1.

Average Burden Per Response: 1.5 hours.

Frequency: Once.

Quantitative Study:

Annual Burden Hours: 2,000.

Number Of Respondents: 6,000.

Responses Per Respondent: 1.

Average Burden Per Response: 20 minutes.

Frequency: Once.

Total Collection:

Annual Burden Hours: 2,192.

Number of Respondents: 6,128.

Responses per Respondent: 1.

Average Burden per Response: 21.46 minutes.

Frequency: Once.

Respondents for both the focus groups and quantitative study will be individuals currently employed in the private sector in occupations deemed essential by the Army or individuals who are considering careers in these essential occupations. Quota groups will be established to ensure there is an adequate representation of career stage (pre-, early- and mid) volunteers. Focus group data will be collected via moderator-led discussions. Quantitative study data will be collected via a questionnaire administered online. Participation in the focus groups and quantitative study will be voluntary.

The data collection will focus on awareness and knowledge of DA Civilian job opportunities; comparison of DA Civilian vs. private jobs/careers across key dimensions; most important reasons to seek civilian employment in the Army; perceived negative aspects of civilian Army employment; reactions to facts and marketing concepts concerning civilian Army employment; and intended behaviors concerning applying for civilian employment in the Army or recommending to others that they do so.

Dated: December 31, 2014.
Aaron Siegel,
Alternate OSD Federal Register, Liaison Officer, Department of Defense.

[FR Doc. 2014-30965 Filed 1-5-15; 8:45 am]

BILLING CODE 5001-06-P